DEPARTMENT OF ENERGY

[OE Docket No. EA-243-A]

Application To Amend Authority To Export Electric Energy; Tenaska Power Services Co.

AGENCY: Office of Electricity Delivery and Energy Reliability, DOE.

ACTION: Notice of application.

SUMMARY: Tenaska Power Services Co. (Tenaska) has applied to renew its authority to transmit electric energy from the United States to Canada pursuant to section 202(e) of the Federal Power Act (FPA).

DATES: Comments, protests, or requests to intervene must be submitted on or before February 20, 2007.

ADDRESSES: Comments, protests or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On August 16, 2001, the Department of Energy (DOE) issued Order No. EA-243 authorizing Tenaska to transmit electric energy from the United States to Canada. That Order expired on August 16, 2003. On August 14, 2006, Tenaska filed an application with DOE to renew the export authority contained in Order No. EA-243 for a five-year term.

Tenaska proposes to export electric energy to Canada and to arrange for the delivery of those exports over the international transmission facilities presently owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, and Vermont Electric Transmission Co.

In its application, Tenaska indicated that, due to an administrative oversight, it did not apply for a renewal of Order No. EA-243 upon its expiration, despite its consistent adherence to the conditions enumerated in the Order. In its application, Tenaska also stated that it would not export electricity to points in Canada until such time as DOE grants renewed authorization for such exports.

In connection with its renewal application, on September 28, 2006, Tenaska submitted a notarized declaration of its Associate General Counsel indicating that Tenaska's failure to renew its export authorization was inadvertent and there was no intent to export electricity unlawfully. That is evidenced by the fact that Tenaska continued to file the required quarterly reports summarizing the sales it was making at the U.S.-Canada border. The declaration states that TSP has developed internal safeguards to ensure that future applications for renewal of its export authorization are timely filed.

The declaration also stated that Tenaska understood its sales of electricity at the U.S.-Canada border to have occurred on the U.S. side of the border and Tenaska is uncertain whether the purchasers of that electricity have in fact taken the power into Canada or simply resold it to third parties at the U.S. border delivery point or resold the power within markets operated by Regional Transmission Organizations (RTO's) in the U.S. that are accessible to the border. Out of an abundance of caution, Tenaska reported these transactions in its quarterly reports submitted to DOE in compliance with the terms of its export authorization and has not, and will not, engage in similar transactions that could arguably be regarded as an export until such time as DOE renews its export authorization in this proceeding.

DOE expects exporters of electric energy to obtain the necessary authorization from DOE to export electricity and to abide by the terms and conditions established for such export in the Orders issued by DOE, including any term limit for the authorization and the requirement to create and preserve full and complete records and file quarterly reports. Failure to first obtain an Order authorizing the export of electricity, or continuing to export after the expiration of such an Order, may result in a denial of authorization to export in the future and subject the exporter to sanctions and penalties under the FPA. DOE also expects transmitting utilities owning border facilities and entities charged with the operational control of those border facilities, such as Independent System Operators or RTO's, to verify that companies seeking to schedule an electricity export have the requisite authority from DOE to export such power.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the Tenaska application to export electric energy to Canada should be clearly marked with Docket EA-243-A. Additional copies are to be filed directly with Norma Rosner Iacovo, Associate General Counsel, Tenaska Power Services Co., 1701 E. Lamar Blvd, Suite 100, Arlington, TX 76006 AND Neil L. Levy and David G. Tewksbury, Kirkland & Ellis LLP, 655 Fifteenth Street, NW., Washington, DC 20005.

A final decision will be made on this application after the environmental impacts have been evaluated pursuant to the National Environmental Policy Act of 1969, and a determination is made by the DOE that the proposed action will not adversely impact on the reliability of the U.S. electric power supply system.

Copies of this application will be made available, upon request, for public inspection and copying at the address provided above and at http://www.oe.energy.gov/304.htm.

Issued in Washington, DC, on January 16, 2007.
Anthony J. Como,
Director, Permitting and Siting, Office of Electricity Delivery and Energy Reliability.

[FR Doc. E7-701 Filed 1-18-07; 8:45 am]

BILLING CODE 6450-01-P